DEPARTMENT OF HEALTH AND HUMAN SERVICES

National Institutes of Health

National Cancer Institute; Amended Notice of Meeting

Notice is hereby given of a change in the meeting of the National Cancer Institute Special Emphasis Panel, April 5, 2013, 09:00 a.m.—4:00 p.m., 5635 Fishers Lane, Room- 508, Rockville, MD, 20852 which was published in the Federal Register on February 12, 2013, 78 FR9933.

This notice is being amended to change the meeting format from a face to face meeting to a teleconference. Also the meeting time has been changed to 11:00 a.m. to 1:00 p.m. on April 5, 2013. The meeting is closed to the public.

Dated: March 18, 2013.
Melanie J. Gray,
Program Analyst, Office of Federal Advisory Committee Policy.

[FR Doc. 2013-06500 Filed 3-20-13; 8:45 am]

BILLING CODE 4140-01-P